DEPARTMENT OF ENERGY

Federal Energy Regulatory Commission

[Docket No. OR20-4-000]

Phillips 66 Pipeline LLC; Notice of Request for Emergency Relief

Take notice that on November 27, 2019, NGL Supply Wholesale, LLC (NGL) filed a request for the Commission to exercise its emergency powers pursuant to Section 1(15) of the Interstate Commerce Act (ICA), to allow, or if necessary direct, Phillips 66 Pipeline LLC (Phillips 66 Pipeline) to temporarily provide priority treatment of propane shipments to Jefferson City, Missouri and East St. Louis, Illinois. NGL submits that early weather conditions requiring propane for heating and high moisture grain requiring propane for crop drying have driven demand for propane by NGL's customers. Specifically, NGL requests that the Commission direct Phillips 66 Pipeline to prioritize the transportation of propane over butane in its Blue Line to maximize the volume of propane for thirty days from the date of a Commission order, subject to further extensions if the conditions continue.

Notice is given that the deadline pursuant to 18 CFR 343.3 for filing comments is hereby shortened to and including December 6, 2019.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern time on December 6, 2019.

Dated: November 29, 2019.
Kimberly D. Bose,
Secretary.

[FR Doc. 2019-26254 Filed 12-4-19; 8:45 am]

BILLING CODE 6717-01-P